DEPARTMENT OF AGRICULTURE

Animal and Plant Health Inspection Service

[Docket No. APHIS-2013-0048]

Evaluation of Established Plant Pests for Action at Ports of Entry

AGENCY: Animal and Plant Health Inspection Service, USDA.

ACTION: Notice.

SUMMARY: We are advising the public that we have been and are assessing certain plant pests that are present in the United States to determine whether we should take action to mitigate the risk posed by those pests when they are found in consignments of imported goods at ports of entry into the United States. We have determined that it is no longer appropriate or necessary to take such action on some plant pests on which we had been taking action at ports of entry because we are not taking any regulatory action on those same pests when we find them in interstate movement, due to our scientific determination that we do not need to mitigate their pest risk. This process relieves restrictions that are no longer needed and ensures that actions taken on plant pests found in imported goods are consistent with the actions we take on those same pests when they appear in interstate commerce.

FOR FURTHER INFORMATION CONTACT: Mr. David B. Lamb, Regulatory Policy Specialist, RPM, PPQ, APHIS, 4700 River Road Unit 133, Riverdale, MD 20737-1231; (301) 851-2018; or Ms. Diane L. Schuble, National Coordinator for Official Control, Pest Detection and Emergency Programs, PPQ, APHIS, 4700 River Road Unit 133, Riverdale, MD 20737-1237; (301) 851-2334.

SUPPLEMENTARY INFORMATION: Under the Plant Protection Act, as amended (PPA, 7 U.S.C. 7701 et seq.), the Secretary of Agriculture is authorized to take such actions as may be necessary to prevent the introduction and spread of plant pests within the United States. The Secretary has delegated this responsibility to the Administrator of the Animal and Plant Health Inspection Service (APHIS).

Pursuant to the PPA, when the Secretary considers it necessary to prevent the dissemination of a plant pest that is new to or not known to be widely prevalent or distributed within and throughout the United States, the Secretary may hold, seize, quarantine, treat, apply other remedial measures to, destroy, or otherwise dispose of any plant, plant pest, noxious weed, biological control organism, plant product, article, or means of conveyance that, among other things, is moving into the United States and that the Secretary has reason to believe is infested with a plant pest at the time of the movement. Under this PPA authority, consignments of imported articles are inspected at the port of entry to determine whether plant pests are associated with them and, if so, prescribe remedial measures as described in the Act. APHIS typically refers to prescribing measures to address the pest risk as “taking action” at the port of entry to prevent a plant pest from being introduced into or further disseminated within the United States. Pests that are subject to such actions are referred to as “actionable pests.”

APHIS determines whether a pest is actionable based on its novelty and known prevalence or distribution within and throughout the United States, its potential harm to U.S. agricultural, environmental, or other resources, and the need to mitigate its pest risk, if any. However, after APHIS determines that a pest is actionable, circumstances may change, and it may no longer be necessary or be an effective use of resources to take action on the pest at ports of entry. For example, a bacterium could cause disease in a plant, but also could have become widespread in the United States, making any future control efforts ineffective and a waste of limited resources. We may lack effective control methods for an insect pest that is present in the United States, which would result in taking action that will likely not prevent the pest from causing damage but will continue to expend limited resources. Or, for example, a mealybug could damage certain plants, but additional experience with the pest may reveal that the damage is not of sufficient plant pest risk or economic importance to merit action at the port of entry. These circumstances often mean that no restrictions are placed on the interstate movement of articles infested with these pests when the articles are moved interstate. It is important to make the actions we take at the port of entry consistent with the actions taken in interstate movement, to maintain a uniform and consistent pest risk safeguarding and trade policy.

To ensure that we are taking action at the ports of entry only when such action is warranted, APHIS has started to assess currently actionable plant pests that are present in the United States to determine which specific pests we should continue to take action on at the port of entry. The assessment is based on a number of factors, including:

• The extent of the pest's distribution in the United States;

• The pest's impacts on the economy (including its potential impacts on export markets), agricultural production, and the environment;

• The scientific knowledge we have about the pest and the risk it poses; and

• The availability and effectiveness of control or eradication tools for the pest.

After we have completed our assessment, we share the information with the National Plant Board, a group of State plant health agencies. The States conduct their own reviews and provide additional information to help inform APHIS' decisionmaking. For example, States may have additional information on the presence or distribution of a pest in their States, on the damage that pest causes, or potential control tools.

After reviewing the information provided by the States, APHIS makes a decision on whether to continue taking action at ports of entry to mitigate the risk associated with a specific plant pest. Data leading to the decisions are documented in letters that are available on the Web at http://www.aphis.usda.gov/plant_health/plant_pest_info/frsmp/non-reg-pests.shtml. As of September 2013, APHIS has determined that 71 pests on which we had been taking action at ports of entry to address their risk no longer qualify under the PPA as requiring such action.

Done in Washington, DC, this 6th day of November 2013.
Kevin Shea,
Administrator, Animal and Plant Health Inspection Service.

[FR Doc. 2013-27132 Filed 11-12-13; 8:45 am]

BILLING CODE 3410-34-P